OFFICE OF THE UNITED STATES TRADE REPRESENTATIVE

Trade Policy Staff Committee; Public Comments on Proposed United States-Jordan Free Trade Agreement

ACTION: Notice and request for comments.

SUMMARY: This publication gives notice that United States intends to conduct negotiations with the Hashemite Kingdom of Jordan to conclude a free trade agreement. The Trade Policy Staff Committee (TPSC) is requesting written comments from the public to assist the United States Trade Representative (USTR) in formulating negotiating objectives for the agreement and to provide advice on how specific goods and services and other matters should be treated under the agreement. This publication also provides notice that USTR, through the TPSC, will perform an environmental review of the agreement.

DATES: Public comments are due by noon July 17, 2000.

FOR FURTHER INFORMATION CONTACT: For procedural questions concerning public comments, contact Gloria Blue, Executive Secretary, TPSC, Office of the USTR, 600 17th Street, NW., Washington, DC 20508 (202) 395-3475. All other questions regarding the negotiations should be addressed to Adam Shub, Director for Middle Eastern Affairs, Office of the USTR (202) 395-3320.

SUPPLEMENTARY INFORMATION: On June 6, 2000, President Clinton agreed with Jordan's King Abdullah II to negotiate a bilaterial free trade agreement. In the negotiations, the United States and Jordan will seek to eliminate duties and commercial barriers to bilateral trade in U.S.- and Jordanian-origin goods and also expect to address trade in services, trade-related aspects of intellectual property rights, trade-related environmental and labor matters, and other issues.

Written comments with as much specificity as possible, including data, views and arguments, are invited on:

(a) General and commodity-specific negotiating objectives for the agreement.

(b) Economic costs and benefit to U.S. producers and consumers of removal of tariffs and non-tariff barriers to U.S.-Jordan trade.

(c) Treatment of specific goods (described by Harmonized System tariff numbers) under the agreement, including comments on (1) product specific import or export interests or barriers, (2) experience with particular measures that should be addressed in the negotiations, and (3) in the case of articles for which immediate elimination of tariffs is not appropriate, recommended staging schedule for such elimination.

(d) Adequacy of existing customs measures to ensure Jordanian origin of imported goods, and appropriate rules of origin for goods entering the United States under the agreement.

(e) Proposals for service sectors to be addressed in the agreement, existing barriers to trade in those sectors, and economic costs and benefits of removing such barriers.

(f) Relevant trade-related intellectual property rights issues that should be addressed in the negotiations.

(g) Relevant trade-related environmental and labor issues that should be addressed in the negotiations.

(h) Possible environmental effects of the agreement.

USTR, through the TPSC, will perform an environmental review of the proposed agreement pursuant to Executive order 13141, 64 FR 63169.

Comments identifying as present or potential trade barriers laws or regulations that are not primarily trade-related should address the economic, political and social objectives of such regulations and the degree to which they discriminate against producers of the other country.

Written Comments

Persons submitting written comments should provide twenty (20) copies no later than noon, July 17, 2000, to Gloria Blue at address listed above. Where possible, please supplement written comments with a computer disk of the submission containing as much of the technical details as possible either in spreadsheet or word processing table format, with each tariff line/services sector in a separate cell. The disk should have a label identifying the software used and the submitter.

Written comments submitted in connection with this request, except for information granted “business confidential” status pursuant to 15 CFR 2003.6, will be available for public inspection in the USTR Reading Room (Room 101) at the address noted above. An appointment to review the file may be made by calling Brenda Webb at (202) 395-6186. The Reading Room is open to the public from 10:00 a.m. to 12 noon, and from 1 p.m. to 4 p.m. Monday through Friday.

Business confidential information, including any information submitted on disks, will be subject to the requirements of 15 CFR 2003.6. Any business confidential material must be clearly marked as such on the cover letter or page and each succeeding page, and must be accompanied by a non-confidential summary thereof. If the submission contains business confidential information, twenty copies of a public version that does not contain confidential information, must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Nancy A. LeaMond,
USTR, Chief of Staff.

[FR Doc. 00-15060 Filed 6-14-00; 8:45 am]

BILLING CODE 3901-01-M